DEPARTMENT OF AGRICULTURE

Food Safety and Inspection Service

[Docket No. 00-030N]

Codex Alimentarius Commission: Twentieth Session of the Codex Committee on Processed Fruits and Vegetables

AGENCY: Office of the Under Secretary for Food Safety, USDA.

ACTION: Notice of public meeting and request for comments.

SUMMARY: The Office of the Under Secretary for Food Safety and the Agricultural Marketing Service (AMS), U.S. Department of Agriculture (USDA), are sponsoring a public meeting on August 10, 2000. The purpose of the meeting is to provide information and receive public comments on agenda items that will be discussed at the Twentieth Session of the Codex Committee on Processed Fruits and Vegetables (CCPFV), which will be held in Washington, DC on September 11-15, 2000. The Under Secretary and AMS recognize the importance of providing interested parties with information about the Processed Fruits and Vegetables Committee of the Codex Alimentarius Commission (Codex) and to address the items on the Agenda for the Twentieth Session of the CCPFV.

DATES: The public meeting is scheduled for Thursday, August 10, 2000, from 9 a.m. to 4:30 p.m.

ADDRESSES: The public meeting will be held in Room 0161 South Building, U.S. Department of Agriculture, 1400 Independence Ave. SW, Washington, DC. To receive copies of the documents referenced in this notice contact the FSIS Docket Room, U.S. Department of Agriculture, Food Safety and Inspection Service, Room 102, Cotton Annex, 300 12th Street, SW, Washington, DC 20250-3700. The documents will also be accessible via the World Wide Web at the following address: http://www.fao.org/waicent/faoinfo/economic/esn/codex/ccpfv20/pf00—01e.htm. Submit one original and two copies of written comments to the FSIS Docket Room (address above), Docket #00-030N and the document number. All comments received in response to this notice will be considered part of the public record and will be available for viewing in the FSIS Docket Room between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue SW., Washington, DC 20250, Telephone (202) 205-7760, FAX (202) 720-3157. Persons requiring a sign language interpreter or other special accommodations should notify Mr. Clerkin at the above number.

SUPPLEMENTARY INFORMATION:

Background

Codex was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled.

The Codex Committee on Processed Fruits and Vegetables reviews world-wide standards for various processed fruits and vegetables, including certain dried products and certain canned products. This committee does not cover standards for fruit and vegetable juices. Codex has also allocated to this Committee the work of revision of standards for quick frozen fruits and vegetables. The Committee is chaired by the United States of America.

Issues To Be Discussed at the Public Meeting

Agenda items will be described and discussed at the August 10, 2000, public meeting. Attendees will have the opportunity to pose questions and offer comments.

The provisional agenda items to be discussed during the public meeting are:

1. Adoption of the Agenda,

2. Matters Referred by the Codex Alimentarius Commission and other Codex Committees,

3. Establishment of a Priority List for the Revision and Standardization of Processed Fruits and Vegetables,

4. Draft Revised Standards for Canned Fruits at Step 7 Canned Applesauce and Canned Pears,

5. Proposed Draft Guidelines for Packing Media for Canned Vegetables,

6. Proposed Draft Guidelines for Packing Media for Canned Fruits,

7. Methods of Analysis for Processed Fruits and Vegetables,

8. Consideration of Other Draft and Proposed Draft Standards for Processed Fruits and Vegetables Based on Priority List Discussions,

9. Other Business and Future Work.

Each issue listed will be fully described in documents distributed, or to be distributed, by United States' Secretariat to the Meeting. Members of the public may access or request copies of these documents (see ADDRESSES).

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on July 21, 2000.
F. Edward Scarbrough,
U.S. Manager for Codex Alimentarius.

[FR Doc. 00-18988 Filed 7-26-00; 8:45 am]

BILLING CODE 3410-DM-P